DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact with respect to a request from Georgia Transmission Corporation for financing assistance from RUS to finance the construction of a 230/25 kV Substation, a 230 kV switching station, and a 230 kV transmission line in Gwinnett County, Georgia.

FOR FURTHER INFORMATION CONTACT: Stephanie Strength, Environmental Protection Specialist, USDA, Rural Development, Utilities Programs, Engineering and Environmental Staff, USDA, Rural Development, 1400 Independence Avenue, SW., Stop 1571, Washington, DC 20250-1571, Telephone: (202) 720-0468 or e-mail: stephanie.strength@wdc.usda.gov.

SUPPLEMENTARY INFORMATION: Georgia Transmission Corporation proposes to construct a 230 kilovolt transmission line between the Jim Moore Substation (located on Auburn Road (SR324), 3.2 miles north of Dacula, Georgia, and 14.3 miles northwest of Auburn, Georgia) to the Old Freeman Mill Road Switching Station (located 2 miles northeast of Dacula, Georgia and 0.2 miles south of State Highway 29 (Winder Highway) on Old Freemans Mill Road. The transmission line connects the Old Freeman Mill switching station in-line with the existing Lawrenceville-Winder Primary 230 kilovolt Transmission Line to the proposed Jim Moore Road 230/25 kilovolt transmission substation.

Concrete or steel poles ranging in height from 85 to 115 feet would support the conductors and would require a right-of-way of 25 to 100 feet. The approximate length of the transmission line is 4.4 miles. It is anticipated that the transmission line and substations would be in service by the summer of 2006.

Alternatives considered by RUS and Georgia Transmission Corporation include: (a) No action, (b) alternative transmission improvements, and (c) alternative transmission line corridors.

An environmental report, which describes the project further and discusses anticipated environmental impacts thereof has been prepared by Georgia Transmission Corporation.

Copies of the Finding of No Significant Impact are available from RUS at the address provided herein or from Ms. Susan Ingall of Georgia Transmission Corporation, 2100 East Exchange Place, Tucker, Georgia 30085-2088 telephone (770) 270-7425. Ms. Ingall's e-mail address is susan.ingall@gatrans.com.

Dated: December 5, 2005.
James R. Newby,
Assistant Administrator, Electric Program, Rural Utilities Service.

[FR Doc. E5-7197 Filed 12-9-05; 8:45 am]

BILLING CODE 3410-15-P